DEPARTMENT OF EDUCATION

Office of Special Education and Rehabilitative Services; Overview Information; Technical Assistance and Dissemination To Improve Services and Results for Children With Disabilities—Model Demonstration Centers on Early Childhood Language Intervention; Notice Inviting Applications for New Awards for Fiscal Year (FY) 2007

Catalog of Federal Domestic Assistance (CFDA) Number: 84.326M.

Dates:

Applications Available: March 22, 2007.

Deadline for Transmittal of Applications: May 7, 2007.

Deadline for Intergovernmental Review: July 5, 2007.

Eligible Applicants: State educational agencies (SEAs); local educational agencies (LEAs); public charter schools that are LEAs under State law; institutions of higher education (IHEs); other public agencies; private nonprofit organizations; outlying areas; freely associated States; Indian tribes or tribal organizations; and for-profit organizations.

Estimated Available Funds: $1,200,000.

Estimated Average Size of Award: $400,000.

Maximum Award: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months. As described in the Priority section of this notice, the Secretary may fund the project for a fifth year to collect and analyze data on children's developmental progress following their participation in the intervention model.

Full Text of Announcement

I. Funding Opportunity Description

Purpose of Program: This program promotes academic achievement and improves results for children with disabilities by supporting technical assistance, model demonstration projects, dissemination of useful information, and implementation activities that are supported by scientifically based research.

Priority: In accordance with 34 CFR 75.105(b)(2)(v), this priority is from allowable activities specified in the statute (see sections 663 and 681(d) of the Individuals with Disabilities Education Act (IDEA)).

Absolute Priority: For FY 2007 this priority is an absolute priority. Under 34 CFR 75.105(c)(3), we consider only applications that meet this priority.

This priority is:

Model Demonstration Centers on Early Childhood Language Intervention

Background:

Children's ability to communicate and the quality of their communication affect their developmental trajectories, their learning, their ability to interact with and relate to others, and their success in school. Communication is accomplished through the use of a shared code, i.e., language, which can be a spoken, written or other symbol system. While language development typically is a robust process for children, there are factors that can negatively affect language acquisition either by limiting the quality or quantity of linguistic input a child receives or by interfering with the way in which a child processes that input (National Research Council, 2000). A language disorder is defined as impaired comprehension and/or use of language. While a language disorder may be a child's primary disability, it may be secondary to other disabilities such as autism or a hearing impairment (including deafness).

Many young children receiving services under IDEA participate in speech and language interventions. In the National Early Intervention Longitudinal Study (NEILS), service providers reported that 53 percent of infants and toddlers received speech and language therapy within the first six months of beginning early intervention services. Additionally, the 2004 IDEA child count data indicate that 47 percent of three through five year olds served under the Part B program of IDEA have speech or language impairments, though the actual number is likely to be much higher because this number does not include children who have speech or language impairments but are identified as having a developmental delay and children with primary disabilities other than speech or language impairments who also have language disorders.

Functional or naturalistic language interventions have been shown to be effective in increasing the overall quantity and quality of children's communication and language skills (Owens, 2004; Warren, Yoder, & Leew, 2002). A functional language approach to intervention is grounded in the principle that language develops for the purpose of communicating within a social environment. Intervention practices or teaching strategies are therefore implemented within the context of children's daily activities and routines to promote their communication and language development. This intervention approach is child-centered in that it focuses on children's interests and supports their attempts to communicate within social interactions. A functional language approach stresses the importance of engaging adults in a child's environment, including family members, childcare providers, and interventionists as language facilitators so that they can use empirically valid strategies to support children's language and communication development across communicative contexts and partners. A functional language approach is different from language interventions that are directed by an adult and target discrete, isolated language skills within artificial situations.

Children with significant language disorders are often served by a variety of professionals, and it is not uncommon for them to receive interventions that are based on one theoretical and empirical framework for the first few years and then transition to a program that emphasizes a very different approach with divergent theoretical underpinnings and empirical support. If this shift in intervention approaches is dramatic, the child may lose skills he or she has acquired under the previous approach and family members may experience confusion and uncertainty about what the child should be learning and how they should support those experiences. Continuity in the interventions that are provided across early intervention and preschool settings could lessen any confusion and uncertainty experienced by families of young children with disabilities as they transition from one program to another.

Children with significant language disorders are at high risk for social and academic difficulties. To support infants, toddlers, and preschoolers with disabilities in developing the skills they will need to communicate competently, there is a need for a scientifically based evaluation of effective functional language intervention models implemented within natural settings. This need is especially critical for young children with significant language disorders who are served across both early intervention and preschool programs. The Department is interested in evaluating functional language intervention models that address the diverse population of infants, toddlers, and preschool children served under both Part C and Part B of IDEA, especially those children who need intensive language interventions as a result of a specific language disorder, or a language disorder that is secondary to other disabilities such as autism or a hearing impairment (including deafness).

Priority:

The purpose of this priority is to support three (3) Centers to evaluate models that incorporate scientifically based research related to language interventions for children birth through five with significant language disorders served across the Part C and Part B preschool programs under IDEA. Each Center will work with no less than three sites and will implement the same functional language intervention model in each of these sites. Each site must serve children with disabilities ages birth through five, either in separate early intervention and preschool programs within the same community or through a coordinated system that serves children with disabilities ages birth through five. Each site must include both an early intervention component and a preschool component so that critical elements of the language intervention models are consistent as children transition from IDEA Part C to Part B services.

Each Center must implement and evaluate the functional language intervention model in early childhood environments, such as child care settings, Head Start programs, private or public preschools, early childhood special education settings, and home/community-based environments to determine their usefulness, effectiveness, and general applicability to these typical settings.

An applicant must describe, in its application—

(a) The proposed model and the supporting evidence for the model as a whole, including empirical support of the critical components that comprise the model;

(b) The knowledge, experience, and capabilities of the key staff who will be responsible for the development and implementation of the functional language intervention model across the early intervention and preschool programs;

(c) The methods to be used for recruiting and selecting sites, and if the applicant has identified sites that would be willing to participate in the model demonstrations, a description of the population of children typically served by these sites. The final site selection will be determined following the first cross-project meeting; and

(d) The partnership that the Center has established with local early intervention and preschool programs to implement the model and to increase the likelihood that personnel will develop sufficient expertise in order to sustain the model after project completion.

To meet the requirements of this priority, each Center, at a minimum, must—

(1) Conduct a systematic review of the research on evidence-based language interventions that focuses on functional communication within natural settings that are appropriate for young children ages birth through five with significant language disorders. To the extent possible, the Center must use the standards established by the What Works Clearinghouse, (http://www.whatworks.ed.gov/reviewprocess/study_standards_final/pdf). If it is not possible to use these standards, other rigorous standards must be used to identify evidence-based interventions and practices;

(2) Design and implement a language intervention model that: (a) Focuses on language development and readiness skills for young children ages birth through five with significant language disorders; (b) is grounded in a scientifically based functional approach to language intervention that is embedded within the context of practices that are developmentally appropriate and empirically supported; (c) takes into account continuity of interventions by enrolling children in the Part C program and following them through the Part B program until the completion of the model demonstration project; (d) can be adapted based on specific characteristics of the child, such as age and disability; and (e) is designed to lead to improved outcomes for young children with significant language disorders;

(3) Provide initial and ongoing professional development to early interventionists, early childhood special educators, related service providers, and early care and education personnel in the project working with young children with disabilities and who are charged with implementing the model. Ensure that there is a process for providing feedback to personnel participating in the project on their implementation of the language intervention model;

(4) Implement an evaluation plan that includes a detailed description of the full model and the critical elements of the model, a description of the system variables required to implement and sustain the model, and the processes for collecting and analyzing specific project and cross-project data related to: (a) The effectiveness of the language intervention model, including child outcomes; (b) the fidelity of the implementation of the model and acceptable variations; (c) the continuity of the model across the Part C and Part B programs; and (d) the effectiveness of the professional development provided to personnel participating in the model demonstrations. Common cross-site data to be collected will be determined following the first cross-project meeting;

(5) Document the effects of a consistent language intervention approach on the transition process as children move from the IDEA Part C program to the Part B program;

(6) Identify methods for effectively supporting communication and collaboration among families, community agencies, and program/Center staff to implement the language intervention model across the Part C and Part B programs;

(7) Coordinate with the other Centers funded under this competition and the Model Demonstration Coordination Center (MDCC) to determine a cross-project plan for evaluating the impact of these models on children's developmental progress and outcomes. The MDCC is a separate center funded by OSEP that is responsible for coordinating implementation and analyzing data to determine the effectiveness of intervention models. The MDCC is developing a data coordination plan and cross-site data collection instruments and will generate common evaluation questions, synthesize and analyze data, monitor implementation fidelity, ensure data reliability, and foster information dissemination. As part of cross-site coordination, Centers will be asked to collect common measures that may or may not be the same as those proposed by the applicant. Common measures may include observations or assessments of programs, classrooms, or children participating in the language intervention model as well as programs, classrooms, or children who were not part of the language intervention model. The purpose of the data is to provide general information on the contexts in which models are more fully implemented and effective;

(8) Develop regular communication with OSEP's other funded centers, as appropriate, to share information regarding topics such as successful strategies and implementation challenges for language interventions for children with significant language disorders in early childhood environments;

(9) As appropriate, develop and apply strategies for disseminating implementation information to specific audiences, including early interventionists, preschool special educators, related service providers, families, administrators, policymakers, and researchers. These dissemination strategies must involve collaboration with MDCC, and with technical assistance providers, including parent centers funded by OSEP;

(10) Prior to developing any new product, whether paper or electronic, submit for approval a proposal describing the content and purpose of the product to the Project Officer to be designated by OSEP and the document review board of OSEP's Dissemination Center;

(11) Budget for the Center's project director to attend a three-day Project Directors' meeting in Washington, D.C. during each year of the project; and one additional yearly meeting with OSEP and the MDCC (the first meeting to take place within one month of the project's January 1, 2008 start date);

(12) If a Web site is maintained, format the information and documents on the Web site in a manner that meets a government or industry-recognized standard for accessibility.

Fifth Year of the Project:

In deciding whether to continue funding the Center for the fifth year, the Secretary will consider the requirements of 34 CFR 75.253(a), and in addition—

(a) The timeliness and effectiveness with which all requirements of the negotiated cooperative agreement have been or are being met by the Center;

(b) The degree to which the Center recruited and retained a large enough sample of children to allow for meaningful data collection and analysis of where children were served, the type of services they received, and their developmental progress and outcomes once they exited preschool programs.

Waiver of Proposed Rulemaking: Under the Administrative Procedure Act (APA) (5 U.S.C. 553), the Department generally offers interested parties the opportunity to comment on a proposed priority. However, section 681(d) of IDEA makes the public comment requirements under the APA inapplicable to the priority in this notice.

Program Authority: 20 U.S.C. 1463 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply only to IHEs.

II. Award Information

Type of Award: Cooperative agreement.

Estimated Available Funds: $1,200,000.

Estimated Average Size of Award: $400,000.

Maximum Award: We will reject any application that proposes a budget exceeding $400,000 for a single budget period of 12 months. The Assistant Secretary for Special Education and Rehabilitative Services may change the maximum amount through a notice published in the Federal Register.

Estimated Number of Awards: 3.

Note: The Department is not bound by any estimates in this notice.

Project Period: Up to 48 months. As described in the Priority section of this notice, the Secretary may fund the project for a fifth year to collect and analyze data on children's developmental progress following their participation in the intervention model.

III. Eligibility Information

1. Eligible Applicants: SEAs; LEAs; public charter schools that are LEAs under State law; IHEs; other public agencies; private nonprofit organizations; outlying areas; freely associated States; Indian tribes or tribal organizations; and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326M.

Individuals with disabilities may obtain a copy of the application package in an alternative format (e.g., Braille, large print, audiotape, or computer diskette) by contacting the Grants and Contracts Services Team listed under For Further Information Contact in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, you must include all of the application narrative in Part III.

We will reject your application if—

• You apply these standards and exceed the page limit; or

• You apply other standards and exceed the equivalent of the page limit.

3. Submission Dates and Times:

Applications Available: March 22, 2007.

Deadline for Transmittal of Applications: May 7, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under For Further Information Contact.

Deadline for Intergovernmental Review: July 5, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2007. The Model Demonstration Centers on Early Childhood Language Intervention-CFDA Number 84.326M is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for The Model Demonstration Centers on Early Childhood Language Intervention at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.grants.gov/applicants/get_registered.jsp). These steps include (1) registering your organization, (2) registering yourself as an Authorized Organization Representative (AOR), and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text) or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under For Further Information Contact, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326M), 400 Maryland Avenue, SW., Washington, DC 20202-4260.

or

By mail through a commercial carrier:U.S. Department of Education, Application Control Center—Stop 4260, Attention: (CFDA Number 84.326M), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326M), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210 and are listed in the application package.

2. Treating A Priority As Two Separate Competitions: In the past, there have been problems in finding peer reviewers without conflicts of interest for competitions in which many entities throughout the country submit applications. The Standing Panel requirements under IDEA also have placed additional constraints on the availability of reviewers. Therefore, the Department has determined that, for some discretionary competitions, applications may be separated into two or more groups and ranked and selected for funding within the specific group. This procedure will ensure the availability of a much larger group of reviewers without conflicts of interest. It also will increase the quality, independence and fairness of the review process and permit panel members to review applications under discretionary competitions for which they have also submitted applications. However, if the Department decides to select for funding an equal number of applications in each group, this may result in different cut-off points for fundable applications in each group.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has developed measures that will yield information on various aspects of the Technical Assistance and Dissemination to Improve Services and Results for Children with Disabilities program. These measures focus on: the extent to which projects provide high quality products and services, the relevance of project products and services to educational and early intervention policy and practice, and the use of products and services to improve educational and early intervention policy and practice.

Grantees will be required to provide information related to these measures.

Grantees will also be required to report information on their projects' performance in annual reports to the Department (34 CFR 75.590).

VII. Agency Contact

For Further Information Contact: Christy Kavulic, U.S. Department of Education, 400 Maryland Avenue, SW., room 4057, Potomac Center Plaza, Washington, DC 20202-2550. Telephone: (202) 245-7359.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 16, 2007.
John H. Hager,
Assistant Secretary for Special Education and Rehabilitative Services.

[FR Doc. E7-5267 Filed 3-21-07; 8:45 am]

BILLING CODE 4000-01-P